SOCIAL SECURITY ADMINISTRATION

20 CFR Part 404

[Regulations No. 4]

RIN 0960-AF93

Extension of the Expiration Date for Several Body System Listings

AGENCY: Social Security Administration (SSA).

ACTION: Final rule.

SUMMARY: We adjudicate claims at the third step of our sequential evaluation process for evaluating disability using the Listing of Impairments (the Listings) under the Social Security and Supplemental Security Income (SSI) programs. This final rule extends until July 1, 2005, the date on which several body system listings will no longer be effective.

We have made no revisions to the medical criteria in these listings; they remain the same as they now appear in the Code of Federal Regulations. This extension will ensure that we continue to have medical evaluation criteria in the listings to adjudicate claims for disability based on impairments in these body systems at step three of our sequential evaluation process.

EFFECTIVE DATE: This final rule is effective June 20, 2003.

FOR FURTHER INFORMATION CONTACT: Nancy Torkas, Social Insurance Specialist, Office of Disability Programs, 4413 Annex Building, 6401 Security Boulevard, Baltimore, MD 21235-6401, (410) 965-1744 or TTY (410) 966-5609. For information on eligibility or filing for benefits, call our national toll-free number, 1-800-772-1213 or TTY 1-800-325-0778, or visit out Internet Web site, Social Security Online http://www.socialsecurity.gov.

Electronic Version: The electronic file of this document is available on the date of publication in the Federal Register on the Internet site for the Government Printing Office at http://www.access.gpo.gov/su_docs/aces/aces140.html. It is also available on the Internet site for SSA (i.e., Social Security Online) at http://www.socialsecurity.gov/regulations.

SUPPLEMENTARY INFORMATION: We use the Listings in appendix 1 to subpart P of part 404 at the third step of the sequential evaluation process to evaluate claims filed by adults and children for benefits based on disability under the Social Security and SSI programs. The Listings are divided into parts A and B. We use the criteria in part A to evaluate the impairments of adults. We first use the criteria in part B to evaluate impairments of children. If the criteria in part B do not apply, then we will apply the medical criteria in part A.

In this final rule, we are extending until July 1, 2005, the date on which several body system listings will no longer be effective, in order to allow sufficient time for us to revise them. These body systems are:

Growth Impairment (100.00)

Special Senses and Speech (2.00 and 102.00)

Respiratory System (3.00 and 103.00)

Cardiovascular System (4.00 and 104.00)

Digestive System (5.00 and 105.00)

Genito-Urinary System (6.00 and 106.00)

Hemic and Lymphatic System (7.00 and 107.00)

Skin (8.00)

Endocrine System (9.00 and 109.00)

Multiple Body Systems (110.00)

Neurological (11.00 and 111.00)

Mental Disorders (12.00 and 112.00)

Neoplastic Diseases, Malignant (13.00 and 113.00)

Immune System (14.00 and 114.00)

As a result of medical advances in disability evaluation and treatment, and program experience, we periodically review and update the Listings. We are extending the current expiration date for these Listings because we will not complete revised listings criteria for these body systems by the current expiration date. We are currently in the process of revising these body system listings. Since we last extended the expiration date of the listings, we have published several notices of proposed rulemaking (or advance notices of proposed rulemaking) proposing to revise the criteria of the listings in several body systems. We intend to publish proposed and final rules for the listings in each body system as expeditiously as possible, however, it will not be possible to do so by July 2, 2003, the current expiration date.

In final rules published on June 28, 2001 (66 FR 34361), we extended to July 2, 2003 the date on which the listings for the following body systems would no longer be effective: Growth Impairment; Musculoskeletal System; Special Senses and Speech; Cardiovascular System; Digestive System; Genito-Urinary System; Hemic and Lymphatic System; Skin; Endocrine System; Multiple Body Systems (110.00); Neurological; Mental Disorders; Neoplastic Diseases, Malignant; and Immune System. On June 28, 2002, we published final rules extending until July 2, 2003 the date on which the respiratory body system listings will no longer be effective (67 FR 43537). Until we publish revised language for each body system listings, the current listings remain valid for our program purposes.

On November 19, 2001, we published revised listings for the musculoskeletal body system (1.00 and 101.00) (66 FR 58010). The listings for the musculoskeletal body system will no longer be effective on February 19, 2009, unless they are extended or revised and promulgated again (66 FR at 58037). The expiration date for the musculoskeletal body system listings is not affected by this final rule. In addition, on June 19, 2000, we published final rules establishing a separate listing (Listing 10.06) for evaluating non-mosaic Down Syndrome in adults, and created a multiple body system listing section in the Part A listings. (65 FR 31800). The Part A multiple body system listings will no longer be effective on June 19, 2008 (65 FR at 31802). The expiration date for the listing in this body system also is not affected by this final rule.

Regulatory Procedures

Justification for Final Rule

Pursuant to section 702(a)(5) of the Social Security Act, 42 U.S.C. 902(a)(5), we follow the Administrative Procedure Act (APA) rulemaking procedures specified in 5 U.S.C. 553 in the development of regulations. The APA provides exceptions to its notice and public comment procedures when an agency finds there is good cause for dispensing with such procedures on the basis that they are impracticable, unnecessary, or contrary to the public interest. We have determined that, under 5 U.S.C. 553(b)(B), good cause exists for dispensing with the notice and public comment procedures for this rule. Good cause exists because this final rule only extends the date on which these body system listings will no longer be effective. It makes no substantive changes to those listings. The current regulations expressly provide that listings may be extended, as well as revised and promulgated again. Therefore, we have determined that opportunity for prior comment is unnecessary, and we are issuing this regulation as a final rule.

In addition, we find good cause for dispensing with the 30-day delay in the effective date of a substantive rule provided by 5 U.S.C. 553(d). As explained above, we are not making any substantive changes in these body system listings. However, without an extension of the expiration dates for these listings, we will lack regulatory criteria for assessing impairments in these body systems at the third step of our sequential evaluation process after the current expiration date of these listings. In order to ensure that we continue to have regulatory criteria for assessing impairments under these listings, we find that it is in the public interest to make this final rule effective on the date of publication.

Executive Order 12866

We have consulted with the Office of Management and Budget (OMB) and determined that this final rule does not meet the criteria for a significant regulatory action under Executive Order (E.O.) 12866, as amended by E.O. 13258. We have also determined that this final rule meets the plain language requirement of E.O. 12866, as amended by E.O. 13258.

Regulatory Flexibility Act

We certify that this final rule will not have a significant economic impact on a substantial number of small entities. Therefore, a regulatory flexibility analysis, as provided in the Regulatory Flexibility Act, as amended, is not required.

Paperwork Reduction Act

This final rule imposes no reporting/recordkeeping requirements necessitating clearance by OMB.

(Catalog of Federal Domestic Assistance Program Nos. 96.001, Social Security-Disability Insurance; 96.002, Social Security-Retirement Insurance; 96.004, Social Security-Survivors Insurance; 96.006, Supplemental Security Income)

List of Subjects in 20 CFR Part 404

Administrative practice and procedure, Blind, Disability benefits, Old-Age, Survivors and Disability Insurance, Reporting and recordkeeping requirements, Social Security.

Dated: June 4, 2003.
Jo Anne B. Barnhart,
Commissioner of Social Security.

For the reasons set forth in the preamble, part 404, subpart P, chapter III of title 20 of the Code of Federal Regulations is amended as set forth below.

PART 404—FEDERAL OLD-AGE, SURVIVORS AND DISABILITY INSURANCE (1950- )

Subpart P—[Amended]

1. The authority citation for subpart P of part 404 continues to read as follows:

Authority: Secs. 202, 205(a), (b), and (d)-(h), 216(i), 221(a) and (i), 222(c), 223,225, and 702(a)(5) of the Social Security Act (42 U.S.C. 402, 405(a), (b), and (d)-(h), 416(i), 421(a) and (i), 422(c), 423, 425, and 902(a)(5)); sec. 211(b), Pub. L. 104-193, 110 Stat. 2105, 2189.

2. Appendix 1 to subpart P of part 404 is amended by revising items 1, 3, 4, 5, 6, 7, 8, 9, 10, 11, 12, 13, 14 and 15 of the introductory text before part A to read as follows:

Appendix 1 to Subpart P of Part 404—Listing of Impairments

1. Growth Impairment (100.00): July 1, 2005

* * * * *

3. Special Senses and Speech (2.00 and 102.00): July 1, 2005

4. Respiratory System (3.00 and 103.00): July 1, 2005

5. Cardiovascular System (4.00 and 104.00): July 1, 2005

6. Digestive System (5.00 and 105.00): July 1, 2005

7. Genito-Urinary System (6.00 and 106.00): July 1, 2005

8. Hemic and Lymphatic System (7.00 and 107.00): July 1, 2005

9. Skin (8.00): July 1, 2005

10. Endocrine System (9.00 and 109.00): July 1, 2005

11. Multiple Body Systems (10.00): June 19, 2008 and (110.00): July 1, 2005

12. Neurological (11.00 and 111.00): July 1, 2005

13. Mental Disorders (12.00 and 112.00): July 1, 2005

14. Neoplastic Diseases, Malignant (13.00 and 113.00): July 1, 2005

15. Immune System (14.00 and 114.00): July 1, 2005

* * * * *

[FR Doc. 03-15599 Filed 6-19-03; 8:45 am]

BILLING CODE 4191-02-P